DEPARTMENT OF THE INTERIOR

Bureau of Indian Affairs

No Child Left Behind School Facilities and Construction Negotiated Rulemaking Committee—Notice of Meeting

AGENCY: Bureau of Indian Affairs, Interior.

ACTION: Notice.

SUMMARY: In accordance with the Federal Advisory Committee Act, the Bureau of Indian Affairs is announcing that the No Child Left Behind School Facilities and Construction Negotiated Rulemaking Committee will hold its third meeting in Rapid City, South Dakota. The purpose of the meeting is to continue working on reports and recommendations to Congress and the Secretary as required under the No Child Left Behind Act of 2001.

DATES: The Committee's third meeting will begin at 8:30 a.m. on July 12, 2010, and end at 5 p.m. on July 15, 2010.

ADDRESSES: The meeting will be held at the Rushmore Plaza Holiday Inn, 505 North Fifth Street, Rapid City, South Dakota 57709.

FOR FURTHER INFORMATION CONTACT: The Designated Federal Official, Michele F. Singer, Director, Office of Regulatory Affairs and Collaborative Action, Office of the Assistant Secretary—Indian Affairs, 1001 Indian School Road, NW., Suite 312, Albuquerque, NM 87104; telephone (505) 563-3805; fax (505) 563-3811.

SUPPLEMENTARY INFORMATION: The No Child Left Behind School Facilities and Construction Negotiated Rulemaking Committee was established to prepare and submit to the Secretary a catalog of the conditions at Bureau-funded schools, and to prepare reports covering: The school replacement and new construction needs at Bureau-funded school facilities; a formula for the equitable distribution of funds to address those needs; a list of major and minor renovation needs at those facilities; and a formula for equitable distribution of funds to address those needs. The reports are to be submitted to the Secretary and to Congress. The Committee also expects to draft proposed regulations covering construction standards for heating, lighting, and cooling in home-living (dormitory) situations.

The following items will be on the agenda:

• Review and approve April 2010 meeting summary;

• Review of April 2010 action items;

• Discussion on report outline;

• Discussion of Committee caucusing and outreach procedures and identifying any upcoming outreach opportunities;

• Updates from and discussion on: The Dormitory Standards Subcommittee, Catalog/Inventory Subcommittee, Formula for Repair and Renovation Subcommittee, and the Education Subcommittee;

• Bureau of Indian Education briefing on Native American Student Information System;

• Small group and subcommittee work: Dormitory Standards, Catalog/Inventory, Formula for Repair and Renovation, and Education;

• Report back from subcommittee work and discussion;

• School visit to Wounded Knee District School and Loneman Day School;

• Reflections on the school visit;

• Brief update on school facilities FY11 budget;

• Review any language drafted by Committee members concurrent with school visit;

• Review third meeting discussions; and

• Public comments.

Written comments may be sent to the Designated Federal Official listed in the FOR FURTHER INFORMATION CONTACT section above. All meetings are open to the public; however, transportation, lodging, and meals are the responsibility of the participating public.

Dated: June 18, 2010.
Donald Laverdure,
Deputy Assistant Secretary—Indian Affairs.

[FR Doc. 2010-15261 Filed 6-23-10; 8:45 am]

BILLING CODE 4310-W7-P